DEPARTMENT OF HEALTH AND HUMAN SERVICES

National Institutes of Health

Center for Scientific Review; Amended Notice of Meeting

Notice is hereby given of a change in the meeting of the Center for Scientific Review Special Emphasis Panel, June 26, 2003, 8:30 a.m. to June 27, 2003, 3 p.m., Holiday Inn Select Bethesda, 8120 Wisconsin Ave, Bethesda, MD, 20814 which was published in the Federal Register on June 11, 2003, 68 FR 34992-34994.

The meeting will be held on July 24-25, 2003. The time and location remain the same. The meeting is closed to the public.

Dated: June 24, 2003.
LaVerne Y. Stringfield,
Director, Office of Federal Advisory Committee Policy.

[FR Doc. 03-16773 Filed 7-1-03; 8:45 am]

BILLING CODE 4140-01-M